DEPARTMENT OF COMMERCE

National Oceanic and Atmospheric Administration

50 CFR Part 622

[Docket No. 000503121-0189-02; I.D. 030600A]

RIN 0648-AN07

Fisheries of the Caribbean, Gulf of Mexico, and South Atlantic; Coastal Migratory Pelagic Resources of the Gulf of Mexico and South Atlantic; Catch Specifications

AGENCY: National Marine Fisheries Service (NMFS), National Oceanic and Atmospheric Administration (NOAA), Commerce.

ACTION: Final rule.

SUMMARY: In accordance with the framework procedure for adjusting management measures (framework procedure) of the Fishery Management Plan for the Coastal Migratory Pelagic Resources of the Gulf of Mexico and South Atlantic (FMP), NMFS issues this final rule to: Increase the annual total allowable catch (TAC) and increase the commercial trip limit off the southeast coast of Florida for Atlantic group king mackerel; and increase the TAC, modify the commercial trip limits applicable off Florida, and increase the recreational bag limit for Atlantic group Spanish mackerel. The intended effects of this rule are to maintain healthy stocks of king and Spanish mackerel while still allowing catches by important commercial and recreational fisheries.

DATES: This final rule is effective August 2, 2000.

FOR FURTHER INFORMATION CONTACT: Dr. Steve Branstetter; telephone: 727-570-5305; fax: 727-570-5583; e-mail: Steve.Branstetter@noaa.gov.

SUPPLEMENTARY INFORMATION: The fisheries for coastal migratory pelagic resources are regulated under the FMP. The FMP was prepared jointly by the Gulf of Mexico and South Atlantic Fishery Management Councils and was approved and implemented by NMFS through regulations at 50 CFR part 622. In accordance with the framework procedure, the South Atlantic Fishery Management Council (Council) recommended, and NMFS published, a proposed rule (65 FR 31132, May 16, 2000) to: Increase the annual TAC and increase the commercial trip limit off the southeast coast of Florida for Atlantic group king mackerel; and increase the TAC, modify the commercial trip limits applicable off Florida, and increase the recreational bag limit for Atlantic group Spanish mackerel. The proposed rule described the need and rationale for these measures, which are not repeated here.

Comments and Responses

One public comment on the proposed rule was received from the Council.

Comment: The Council reiterated its support for a TAC of 7.04 million lb (3.19 million kg) for Atlantic group Spanish mackerel; noted that the regulations would relieve restrictions, consistent with conserving the resource, and would benefit fishers who had experienced necessary restrictions in the past; and urged timely implementation of the regulations.

Response: NMFS agrees that the Council's proposed actions are appropriate, has approved them, and is implementing them by this final rule.

Change from the Proposed Rule

The proposed rule inadvertently did not include the revision of the adjusted quota for Atlantic group Spanish mackerel that results automatically from the increase in TAC. This final rule incorporates the appropriate revision in § 622.44(b)(2).

Classification

This final rule has been determined to be not significant for purposes of E.O. 12866.

The Chief Counsel for Regulation of the Department of Commerce certified to the Chief Counsel for Advocacy of the Small Business Administration when this rule was proposed that it would not have a significant economic impact on a substantial number of small entities. No comments were received regarding this certification. As a result, a regulatory flexibility analysis was not prepared.

The President has directed Federal agencies to use plain language in their communications with the public, including regulations. To comply with this directive, we seek public comment on any ambiguity or unnecessary complexity arising from the language used in this final rule. Comments should be sent to the Southeast Regional Office, NMFS, 9721 Executive Center Drive N., St. Petersburg, FL 33702.

List of Subjects in 50 CFR Part 622

Fisheries, Fishing, Puerto Rico, Reporting and recordkeeping requirements, Virgin Islands.

Dated: June 27, 2000.
Andrew A. Rosenberg,
Deputy Assistant Administrator for Fisheries, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.39, paragraph (c)(1)(iii) is revised to read as follows:

§ 622.39 Bag and possession limits.

* * * * *

(c) * * *

(1) * * *

(iii) Atlantic migratory group Spanish mackerel—15.

* * * * *

3. In § 622.42, paragraphs (c)(1)(ii) and (c)(2)(ii) are revised to read as follows:

§ 622.42 Quotas.

* * * * *

(c) * * *

(1) * * *

(ii) Atlantic migratory group. The quota for the Atlantic migratory group of king mackerel is 3.71 million lb (1.68 million kg). No more than 0.40 million lb (0.18 million kg) may be harvested by purse seines.

* * * * *

(2) * * *

(ii) Atlantic migratory group. The quota for the Atlantic migratory group of Spanish mackerel is 3.87 million lb (1.76 million kg).

* * * * *

4. In § 622.44, paragraph (a)(1)(iii), paragraphs (b)(1)(ii)(A) and (B), and the first sentence of paragraph (b)(2) are revised to read as follows:

§ 622.44 Commercial trip limits.

* * * * *

(a) * * *

(1) * * *

(iii) In the area between 28°47.8′ N. lat. and 25°20.47′ N. lat., which is a line directly east from the Miami-Dade/Monroe County, FL, boundary, king mackerel in or from the EEZ may not be possessed on board or landed from a vessel in a day in amounts exceeding 75 fish from April 1 through October 31.

* * * * *

(b) * * *

(1) * * *

(ii) * * *

(A) From April 1 through November 30, in amounts exceeding 3,500 lb (1,588 kg).

(B) From December 1 until 75 percent of the adjusted quota is taken, in amounts as follows:

(1) Mondays through Fridays—unlimited.

(2) Saturdays and Sundays—not exceeding 1,500 lb (680 kg).

* * * * *

(2) For the purpose of paragraph (b)(1)(ii) of this section, the adjusted quota is 3.62 million lb (1.64 million kg). * * *

* * * * *

[FR Doc. 00-16774 Filed 6-30-00; 8:45 am]

BILLING CODE 3510-22-F